DEPARTMENT OF AGRICULTURE

Forest Service

Oregon Coast Provincial Advisory Committee Field Trip

AGENCY: Forest Service, USDA.

ACTION: Notice of meeting.

SUMMARY: The Oregon Coast Provincial Advisory Committee (PAC) will meet at the Mapleton Ranger District Office in Florence, OR, on October 12, 2000, to begin a field trip to Enchanted Valley. The Mapleton Ranger District Office is located at 4480 Hwy. 101, Building G, Florence, OR. The trip will begin at 9 a.m. and end at approximately 2 p.m. Bring a lunch and field gear, including waterproof boots. The public is encouraged to attend but must bring its own transportation.

FOR FURTHER INFORMATION CONTACT: Joni Quarnstrom, Public Affairs Specialist, Siuslaw National Forest, 541/750-7075 or write to Acting Forest Supervisor, Siuslaw National Forest, P.O. Box 1148, Corvallis, OR 97339.

Dated: September 18, 2000.
Y. Robert Iwamoto,
Acting Forest Supervisor.

[FR Doc. 00-24864 Filed 9-27-00; 8:45 am]

BILLING CODE 3410-11-M